ENVIRONMENTAL PROTECTION AGENCY

[ER-FRL-6689-5]

Environmental Impacts Statements; Notice of Availability

Responsible Agency: Office of Federal Activities, General Information (202) 564-7167 or http://www.epa.gov/compliance/nepa/.

Weekly receipt of Environmental Impact Statements Filed July 23, 2007 Through July 27, 2007. Pursuant to 40 CFR 1506.9.

EIS No. 20070315, Draft EIS, NOA, AK, Alaska Eskimo Whaling Commission for a Subsistence Hunt on Bowhead Whale for the Years 2008 through 2012 for Issuing Annual Quotas, Proposes to Authorize Subsistence Harvests of the Western Arctic Stock of Bowhead Whales, Bering, Chukchi and Beaufort Seas, AK.

Comment Period Ends: October 12, 2007.

Contact: Steven K. Davis, 907-271-3523.

EIS No. 20070316, Draft EIS, FHW, 00, Northern Corridor Interstate 73 Project, Proposes Construct from I-95 to Future Interstate 74, Marlboro and Dillion Counties, SC and Richmond County, NC.

Comment Period Ends: September 17, 2007.

Contact: Patrick Tyndall, 803-765-5460.

EIS No. 20070317, Draft EIS, FHW, NH, I-93 Exit 4A Interchange Study Derry-Londonderry Project, To Reduce Traffic Congestion Improve Safety for Public and Promote Economic Vitality, Rockingham County, NH, Comment Period Ends:

September 17, 2007.

Contact: William F. O'Donnell, 603-228-3057 Ext. 101.

EIS No. 20070318, Final EIS, FHW, CA, Los Banos Bypass Project, Construct from CA-152 in Merced County beginning near Volta Road west to Los Banos, bypassing Los Banos, ending near the Santa Fe Grade Road, U.S. Army COE Section 404 Permit, Merced County, CA.

Wait Period Ends: September 4, 2007.

Contact: Mayela Sosa, 916-498-5057.

EIS No. 20070319, Final EIS, USN, FL, Boca Chica Field, Restoration of Clear Zones and Stormwater Drainage Systems, Implementation, Naval Air Station (NAS) Key West, Monroe County, FL.

Wait Period Ends: September 4, 2007.

Contact: Jim Reed, 843-820-45543.

EIS No. 20070320, Final EIS, WPA, AZ, San Luis Rio Colorado Project, Proposes to Construct a 26-Mile Long 230 Kilovolt Double-Circuit Transmission Line from the International Border with Mexico to Western and Arizona Public Service Substations near Yuma County, AZ.

Wait Period Ends: September 4, 2007.

Contact: Mark Wieringa, 720-962-7448.

EIS No. 20070321, Final EIS, NOA, 00, Amendment 27 to the Reef Fish Fishery Management Plan and Amendment 14 to the Shrimp Fishery Management Plan, To Address Stock Rebuilding and Overfishing of Red Snapper, Gulf of Mexico.

Wait Period Ends: September 4, 2007.

Contact: Roy E. Crabtree, 727-824-5305.

EIS No. 20070322, Draft EIS, NPS, AZ, Saguaro National Park General Management Plan, Implementation, Rincon Mountain District and Tucson Mountain District, Pima County, AZ.

Comment Period Ends: September 17, 2007.

Contact: Mary McVeigh, 303-969-2442.

EIS No. 20070323, Draft EIS, FHW/FTA, CO, US-36 Corridor, Multi-Modal Transportation Improvements between I-25 in Adams County and Foothills Parkway/Table Mesa Drive in Boulder, Adams, Denver, Broomfield, Boulder and Jefferson Counties, CO.

Comment Period Ends: September 17, 2007.

Contact: Douglas Bennett, 720-963-3030.

The DOT/FHW and DOT/FTA are Joint Lead Agencies for the above project.

EIS No. 20070324, Final EIS, FAA, 00, New York/New Jersey/Philadelphia Metropolitan Area Airspace Redesign Project, To Increase the Efficiency and Reliability of the Airspace Structure and Air Traffic Control System, NY, NJ and PA.

Wait Period Ends: September 4, 2007.

Contact: Steve Kelly, 718-553-2610.

EIS No. 20070325, Final EIS, NRC, MA, Generic—License Renewal of Nuclear Plants, Supplement 29 to NUREG-1437, Regarding the License Renewal of Pilgrim Nuclear Power Station, Cape Cod Bay, Town of Plymouth, Plymouth County, MA.

Wait Period Ends: September 4, 2007.

Contact: Alicia Washington 301-415-1878.

EIS No. 20070326, Draft EIS, FTA, TX, University Corridor Fixed Guideway Project, To Implement Transit Improvements from Hillcroft Transit Center to the Vicinity of the University of Houston (UH)—Central Campus or the Eastwood Transit Center, City of Houston, Harris County, TX.

Comment Period Ends: September 17, 2007.

Contact: John Sweek, 817-978-0550.

EIS No. 20070327, Draft EIS, FTA, TX, Denton to Carrollton Regional Rail Corridor Project, Transportation Improvements between Downtown Denton and the Dallas Area Rapid (DART) System, Right-of-Way Grant, Denton and Dallas Counties, TX, Comment Period Ends: September 19, 2007.

Contact: Robert C. Patrick, 817-978-0550.

Amended Notices

EIS No. 20070275, Draft EIS, FHW, CA, Eureka-Arcata Route 101 Corridor Improvement Project, Proposed Roadway Improvements on Route 101 between the Eureka Slough Bridge and 11th St. Overcrossing in Arcata, Humbolt County, CA, Comment Period Ends: September 28, 2007.

Contact: Lanh Phan, 916-498-5046.

Revision of FR Notice Published July 6, 2007.

Extending Comment from August 24, 2007 to September 28, 2007.

EIS No. 20070312, Draft EIS, USN, HI, Hawaii Range Complex (HRC) Project, To Support and Maintain Navy Pacific Fleet Training, and Research, Development, Test, and Evaluation (RDT&E) Operations, Kauai, Honolulu, Maui and Hawaii Counties, HI, Comment Period Ends: September 17, 2007.

Contact: Tom Clements, 866-767-3347.

Revision of FR Notice Published July 27, 2007.

Extending Comment Period from September 10, 2007 to September 17, 2007.

Dated: July 31, 2007.
Clifford Rader,
Environmental Protection Specialist, Office of Federal Activities.

[FR Doc. E7-15115 Filed 8-2-07; 8:45 am]

BILLING CODE 6560-50-P